COMMISSION ON CIVIL RIGHTS

Notice of Public Meeting of the Connecticut Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Connecticut Advisory Committee (Committee) to the U.S. Commission on Civil Rights will convene a business meeting on Thursday, March 16, 2023, 12:00 p.m. Eastern Time. The purpose of the meeting is to continue to review, edit, and vote on a draft report on the civil rights implications of algorithms.

DATES: March 16, 2023, Thursday; 12:00 p.m. (ET).

ADDRESSES: Meeting will be held via Zoom.

Meeting Link (Audio/Visual): https://tinyurl.com/2p9b2mde; password: USCCR-CT

Join by Phone (Audio Only): 1-551-285-1373; Meeting ID: 161 850 4257#

FOR FURTHER INFORMATION CONTACT: Evelyn Bohor, at ebohor@usccr.gov or 202-381-8915.

SUPPLEMENTARY INFORMATION: Members of the public can listen to these discussions. Committee meetings are available to the public through the above call-in number. Any interested member of the public may call this number and listen to the meeting. An open comment period will be provided to allow members of the public to make a statement as time allows. Callers can expect to incur regular charges for calls they initiate over wireless lines, according to their wireless plan. The Commission will not refund any incurred charges. Callers will incur no charge for calls they initiate over land-line connections to the toll-free telephone number. Individuals who are deaf, deafblind and hard of hearing may also follow the proceedings by first calling the Federal Relay Service at 1-800-877-8339 and providing the Service with the conference call number and conference ID number.

Members of the public are also entitled to submit written comments; the comments must be received in the regional office within 30 days following the meeting. Written comments may be emailed to Evelyn Bohor at ebohor@usccr.gov. Persons who desire additional information may contact the Regional Programs Unit at (312) 353-8311.

Records generated from the meetings may be inspected and reproduced at the Regional Programs Unit Office, as they become available, both before and after the meeting. Records of the meeting will be available via www.facadatabase.gov under the Commission on Civil Rights, Connecticut Advisory Committee link. Persons interested in the work of this Committee are directed to the Commission's website, http://www.usccr.gov, or may contact the Regional Programs Unit at the above email or street address.

Agenda

I. Roll Call

II. Review, Edit, Vote—Draft Report on Civil Rights Implications of Algorithms

III. Discuss Next Steps

IV. Public Comment

V. Adjournment

Dated: February 9, 2023.
David Mussatt,
Supervisory Chief, Regional Programs Unit.

[FR Doc. 2023-03112 Filed 2-13-23; 8:45 am]

BILLING CODE P